DEPARTMENT OF TRANSPORTATION

Coast Guard

33 CFR Part 165

[CGD01-00-227]

RIN 2115-AA97

Safety Zone: Coast Guard Activities New York Annual Fireworks Displays

AGENCY: Coast Guard, DOT.

ACTION: Notice of proposed rulemaking.

SUMMARY: The Coast Guard proposes to establish 12 permanent safety zones for annual fireworks displays located in the Port of New York/New Jersey. This action is necessary to provide for the safety of life on navigable waters during the events. This action is intended to restrict vessel traffic in a portion of the affected waterways.

DATES: Comments and related material must reach the Coast Guard on or before December 18, 2000.

ADDRESSES: You may mail comments and related material to Waterways Oversight Branch (CGD01-00-227), Coast Guard Activities New York, 212 Coast Guard Drive, room 204, Staten Island, New York 10305. The Waterways Oversight Branch of Coast Guard Activities New York maintains the public docket for this rulemaking. Comments and material received from the public, as well as documents indicated in this preamble as being available in the docket, will become part of this docket and will be available for inspection or copying at room 204, Coast Guard Activities New York, between 8 a.m. and 3 p.m., Monday through Friday, except Federal holidays.

FOR FURTHER INFORMATION CONTACT: Lieutenant M. Day, Waterways Oversight Branch, Coast Guard Activities New York, (718) 354-4012.

SUPPLEMENTARY INFORMATION:

Request for Comments

We encourage you to participate in this rulemaking by submitting comments and related material. If you do so, please include your name and address, identify the docket number for this rulemaking (CGD01-00-227), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Waterways Oversight Branch at the address under ADDRESSES explaining why one would be beneficial. If we determine that one would aid this rulemaking, we will hold one at a time and place announced by a later notice in the Federal Register.

Background and Purpose

The Coast Guard proposes to establish twelve permanent safety zones, in eight separate locations, that will be activated for fireworks displays occurring at the same location and time on an annual basis. The eight proposed locations are north of Bar Beach in Hempstead Harbor; Pier 14, Manhattan, in the East River; Highlands, NJ on Sandy Hook Bay; Kingston, NY on Rondout Creek; Tottenville, Staten Island, in the Arthur Kill; Red Bank, NJ on the Navesink River; the Burlington Bay Breakwater, VT; and Rensselaer, NY on the Hudson River. There are four annual fireworks displays at the proposed location off Pier 14 in the East River and two annual displays at the proposed location in Hempstead Harbor. Establishing permanent safety zones by notice and comment rulemaking gives the public the opportunity to comment on the proposed zones, provides better notice than promulgating temporary rules annually, and decreases the amount of annual paperwork required for these events. The Coast Guard has received no prior notice of any impact caused by the previous events.

Discussion of Proposed Rule

The Coast Guard proposes to revise 33 CFR 165.161 by adding six new locations, revising the effective dates for two current locations, and removing three locations from the section because they are now permanent fireworks safety zones regulated by 33 CFR 165.168. The two current locations with revised effective dates are Highlands, NJ, and Kingston, NY. The three locations that are being removed are Glen Cove, NY, Yonkers, NY, and Elizabeth, NJ.

The proposed sizes of these safety zones were determined using National Fire Protection Association and New York City Fire Department standards for 6-12 inch mortars fired from a barge, combined with the Coast Guard's knowledge of tide and current conditions in these areas. The twelve proposed safety zones are:

North Hempstead, NY Fireworks, Hempstead Harbor

The proposed safety zone includes all waters of Hempstead Harbor within a 300-yard radius of the fireworks barge in approximate position 40°49′54″N 073°39′14″W (NAD 1983), about 360 yards north of Bar Beach, Hempstead Harbor. There are two annual fireworks displays in Hempstead Harbor. Aside from being on different days, the proposed safety zone for each display is the same. The proposed safety zone is effective annually from 8 p.m. (e.s.t.) to 1 a.m. (e.s.t.) on the Friday before Memorial Day and the Saturday after Labor Day. If the event is cancelled due to inclement weather, then this proposed safety zone is effective from 8 p.m. (e.s.t.) until 1 a.m. (e.s.t.) on the Saturday before Memorial Day and the Sunday after Labor Day. The proposed safety zone closes a portion of southern Hempstead Harbor and would prevent marine traffic from transiting a portion of this area. Vessel traffic will be able to transit through the northern 6,000 yards of Hempstead Harbor as this location is in the extreme southern end of Hempstead Harbor. It is needed to protect boaters from the hazards associated with fireworks launched from a barge in the area.

Seaport Memorial Day, Labor Day, New Year's Eve, and the Deepavali Festival Fireworks, East River

The proposed safety zone includes all waters of the East River south of the Brooklyn Bridge and north of a line drawn from the southwest corner of Pier 3, Brooklyn, to the northeast corner of Pier 6, Manhattan. There are four annual fireworks displays in the East River. Aside from being on different days and at different times, the proposed safety zone for each display is the same. The proposed safety zone is effective annually from 8 p.m. (e.s.t.) to 1 a.m. (e.s.t.) on Memorial Day, Labor Day, and New Year's Eve; and from 6 p.m. (e.s.t.) to 1 a.m. (e.s.t.) on the first Sunday in October. If the event is cancelled due to inclement weather, then this proposed safety zone is effective from 8 p.m. (e.s.t.) until 1 a.m. (e.s.t.) on the day following Memorial Day, Labor Day, and New Year's Eve; and from 6 p.m. (e.s.t.) until 1 a.m. (e.s.t.) on the first Monday in October. The proposed safety zone closes a portion of the East River and would prevent marine traffic from transiting this area. It is needed to protect boaters from the hazards associated with fireworks launched from a barge in the area.

Highlands, NJ Fireworks, Sandy Hook Bay

The proposed safety zone includes all waters of Sandy Hook Bay within a 150-yard radius of the fireworks barge in approximate position 40°24′33.8″N 073°59′46.2″W (NAD 1983), about 1,200 yards west of Plum Island. The proposed safety zone is effective annually from 8 p.m. (e.s.t.) to 1 a.m. (e.s.t.) on the Saturday before Father's Day. If the event is cancelled due to inclement weather, then this proposed safety zone is effective from 8 p.m. (e.s.t.) until 1 a.m. (e.s.t.) on Father's Day. The proposed safety zone closes a portion of Sandy Hook Bay and the Shrewsbury River, and would prevent marine traffic from transiting a portion of this area. It is needed to protect boaters from the hazards associated with fireworks launched from a barge in the area.

Kingston, NY Fireworks, Rondout Creek

The proposed safety zone includes all waters of Rondout Creek between the Kingston-Port Ewen Bridge (mile 1.1) and the Kingston-US 9 Bridge (mile 1.3). The fireworks are fired from shore at the Kingston Municipal Docks. The proposed safety zone is effective annually from 8 p.m. (e.s.t.) to 1 a.m. (e.s.t.) on the Saturday and Sunday before July 4th. The proposed safety zone closes a portion of Rondout Creek and prevents marine traffic from transiting the area. It is needed to protect boaters from the hazards associated with fireworks launched from shore in the area.

Staten Island Fireworks, Arthur Kill

The proposed safety zone in the Arthur Kill includes all waters of the Arthur Kill, Ward Point Bend (West), and the Raritan River Cutoff, within a 300-yard radius of the fireworks barge in approximate position 40°30′18″N 074°15′30″W (NAD 1983), about 300 yards west of Conference House Park, Staten Island. The proposed safety zone is effective annually from 8 p.m. (e.s.t.) to 1 a.m. (e.s.t.) on July 3rd and the Saturday before Labor Day. If the event is cancelled due to inclement weather, then this proposed safety zone is effective from 8 p.m. (e.s.t.) to 1 a.m. (e.s.t.) on July 4th and 5th, and the Sunday and Monday of Labor Day weekend. The proposed safety zone prevents vessels from transiting a portion of the Arthur Kill, Ward Point Bend (West), and the Raritan River Cutoff, and is needed to protect boaters from the hazards associated with fireworks launched from a barge in the area. Recreational vessels will still be able to transit through the western 50 yards of the 540-yard wide Arthur Kill during the event. Additionally, vessels are not precluded from getting underway, or mooring at, public or private facilities in Perth Amboy, NJ, in the vicinity of this zone.

Red Bank, NJ July 3rd Fireworks, Navesink River

The proposed safety zone northwest of Red Bank includes all waters of the Navesink River within a 360-yard radius of the fireworks barge in approximate position 40°21′20″N 074°04′10″W (NAD 1983), about 360 yards northwest of Red Bank, NJ. The proposed safety zone is effective annually from 8 p.m. (e.s.t.) to 1 a.m. (e.s.t.) on July 3rd. If the event is cancelled due to inclement weather, then this proposed safety zone is effective from 8 p.m. (e.s.t.) until 1 a.m. (e.s.t.) on July 4th. The proposed safety zone prevents vessels from transiting a portion of the Navesink River and is needed to protect boaters from the hazards associated with fireworks launched from a barge in the area.

Burlington, VT July 3rd Fireworks, Burlington Bay

The proposed safety zone includes all waters of Burlington Bay within a 300-yard radius of the fireworks barge in approximate position 44°28′30.6″N 073°13′31.3″W (NAD 1983), beside the Burlington Bay Breakwater. The proposed safety zone is effective annually from 8 p.m. (e.s.t.) to 1 a.m. (e.s.t.) on July 3rd. If the event is cancelled due to inclement weather, then this proposed safety zone is effective from 8 p.m. (e.s.t.) until 1 a.m. (e.s.t.) on the following two Fridays and Saturdays. The proposed safety zone prevents vessels form transiting a portion of Burlington Bay, and is needed to protect boaters from the hazards associated with fireworks launched from a barge in the area.

Rensselaer, NY Fireworks, Hudson River

The proposed safety zone includes all waters of the Hudson River within a 180-yard radius of the fireworks barge in approximate position 42°38′23″N 073°44′59.1″W (NAD 1983), about 480 yards south of the Dunn Memorial Bridge (mile 145.4). The proposed safety zone is effective annually from 8 p.m. (e.s.t.) to 1 a.m. (e.s.t.) on the first and second Saturday in August. If the event is cancelled due to inclement weather, then this proposed safety zone is effective from 8 p.m. (e.s.t.) until 1 a.m. (e.s.t.) on the first and second Sunday in August. The proposed safety zone prevents vessels from transiting a portion of the Hudson River, and is needed to protect boaters from the hazards associated with fireworks launched from a barge in the area.

The effective period for each proposed safety zone is from 8 p.m. (e.s.t.) to 1 a.m. (e.s.t.), except for the proposed safety zone off Pier 14 in the East River on the first Sunday in October which is effective from 6 p.m. (e.s.t.) to 1 a.m. (e.s.t.). However, vessels may enter, remain in, or transit through these safety zones during this time frame if authorized by the Captain of the Port New York, or designated Coast Guard patrol personnel on scene, as provided for in 33 CFR 165.23. Generally, blanket permission to enter, remain in, or transit through these safety zones will be given except for the 45-minute period that a Coast Guard patrol vessel is present. These proposed safety zones would not create a significant economic impact on marine traffic due to the following: the minimal time that vessels will be restricted from the zones, and all of the zones are in areas where the Coast Guard expects insignificant adverse impact on all mariners from the zones' activation. All of the displays take place late at night on a national holiday with the exceptions of Highlands, NJ, Rensselaer, NY, and the Deepavali Festival Fireworks. The Coast Guard has promulgated safety zones for fireworks displays at all 8 areas in the past and we have not received notice of any negative comments on these annual displays. Additionally, marine traffic can plan their transits through these areas around the time the safety zones are in effect. The marine community will have advance notice of these events as they are annual events with local community support. The Sandy Hook and Hudson River Pilots Associations will be notified prior to these events. Advance notifications will also be made to the local maritime community by the Local Notice to Mariners. Marine information and facsimile broadcasts may also be made.

This rule is being proposed to provide for the safety of life on navigable waters during the events, to give the marine community the opportunity to comment on the proposed zones, and to decrease the amount of annual paperwork required for these events.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary.

This finding is based on the minimal time that vessels will be restricted from the zones, vessels will be able to transit through these safety zones except for the 45-minute period that a Coast Guard patrol vessel is present, and all of the zones are in areas where the Coast Guard expects insignificant adverse impact on all mariners from the zones' activation. All of the displays take place late at night on a national holiday with the exceptions of Highlands, NJ, Rensselaer, NY, and the Deepavali Festival Fireworks. The Coast Guard has promulgated safety zones for fireworks displays at all 8 areas in the past and we have not received notice of any negative comments on these annual displays. Additionally, marine traffic can plan their transits through these areas around the time the safety zones are in effect. The marine community will have advance notice of these events as they are annual events with local community support. The Sandy Hook and Hudson River Pilots Associations will also be notified prior to these events. Advance notifications will also be made to the local maritime community by the Local Notice to Mariners. Marine information and facsimile broadcasts may also be made.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners or operators of vessels intending to transit or anchor in portion of: Hempstead Harbor, the East River, Sandy Hook Bay, Rondout Creek, the Arthur Kill, the Navesink River, Burlington Bay, and the Hudson River during the times these zones are activated.

These safety zones would not have a significant economic impact on a substantial number of small entities for the following reasons: These are all annual events with local community support and vessels will normally be precluded from entering any of the zones for only a 45-minute period on an annual basis. Before the effective period, we would issue maritime advisories widely available to users of the Port of New York/New Jersey by the Local Notice to Mariners. Marine information and facsimile broadcasts may also be made. Additionally, the Coast Guard has not received any negative reports from small entities affected by these displays during these displays in previous years.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant M. Day, Waterways Oversight Branch, Coast Guard Activities New York (718) 345-4012.

Collection of Information

This proposed rule would call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph 34(g), of Commandant Instruction M16475.1C, this proposed rule is categorically excluded from further environmental documentation. This proposed rule fits paragraph 34(g) as it establishes 12 safety zones. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, 160.5; 49 CFR 1.46.

2. Revise § 165.161 to read as follows:

§ 165.161 Safety Zones: Coast Guard Activities New York Annual Fireworks Displays.

(a) Safety Zones. The following areas are designated safety zones:

(1) North Hempstead, NY Fireworks, Hempsteaad Harbor:

(i) Location. All waters of Hempstead Harbor within a 300-yard radius of the fireworks barge in approximate position 40°49′54″N 073°39′14″W (NAD 1983), about 360 yards north of Bar Beach, Hempstead Harbor.

(ii) Effective period. Paragraph (a)(1)(i) is in effect annually from 8 p.m. (e.s.t.) to 1 a.m. (e.s.t.) on the Friday before Memorial Day, and the Saturday after Labor Day. If the event is cancelled due to inclement weather, then paragraph (a)(1)(i) is effective from 8 p.m. (e.s.t.) until 1 a.m. (e.s.t.) on the Saturday before Memorial Day and the Sunday after Labor Day.

(2) Seaport Memorial Day Fireworks, East River, NY:

(i) Location. All waters of the East River south of the Brooklyn Bridge and north of a line drawn from the southwest corner of Pier 3, Brooklyn, to the northeast corner of Pier 6, Manhattan.

(ii) Effective period. Paragraph (a)(2)(i) is in effect annually from 8 p.m. (e.s.t.) to 1 a.m. (e.s.t.) on Memorial Day. If the event is cancelled due to inclement weather, then paragraph (a)(2)(i) is effective from 8 p.m. (e.s.t.) until 1 a.m. (e.s.t.) on the day following Memorial Day.

(3) Highlands, NJ Fireworks, Sandy Hook Bay:

(i) Location. All waters of Sandy Hook Bay within a 150-yard radius of the fireworks barge in approximate position 40°24′33.8″N 073°59′46.2″W (NAD 1983), about 1,200 yards west of Plum Island.

(ii) Effective period. Paragraph (a)(3)(i) is in effect annually from 8 p.m. (e.s.t.) to 1 a.m. (e.s.t.) on the Saturday before Father's Day. If the event is cancelled due to inclement weather, then paragraph (a)(3)(i) is effective from 8 p.m. (e.s.t.) until 1 a.m. (e.s.t.) on Father's Day.

(4) Kingston, NY Fireworks, Rondout Creek:

(i) Location. All waters of Rondout Creek between the Kingston-Port Ewen Bridge (mile 1.1) and the Kingston-US 9 Bridge (mile 1.3).

(ii) Effective period. Paragraph (a)(4)(i) is in effect annually from 8 p.m. (e.s.t.) to 1 a.m. (e.,s.t.) on the Saturday and Sunday before July 4th.

(5) Staten Island July 3rd Fireworks, Arthur Kill:

(i) Location: All waters of the Arthur Kill, Ward Point Bend (West), and the Raritan River Cutoff, within a 300-yard radius of the fireworks barge in approximate position 40°30′18″N 074°15′30″W (NAD 1983), about 300 yards west of Conference House Park, Staten Island.

(ii) Effective period. Paragraph (a)(5)(i) is in effect annually from 8 p.m. (e.s.t.) to 1 a.m. (e.s.t.) on July 3rd. If the event is cancelled due to inclement weather, than paragraph (a)(5)(i) is effective from 8 p.m. (e.s.t.) until 1 a.m. (e.s.t.) on July 4th and July 5th.

(6) Red Bank, NJ July 3rd Fireworks, Navesink River:

(i) Location. All waters of the Navesink River within a 360-yard radius of the fireworks barge in approximate position 40°21′20″N 074°04′10″W (NAD 1983), about 360 yards northwest of Red Bank, NJ.

(ii) Effective period. Paragraph (a)(6)(i) is in effect annually from 8 p.m. (e.s.t.) to 1 a.m. (e.s.t.) on July 3rd. If the event is cancelled due to inclement weather, then paragraph (a)(6)(i) is effective from 8 p.m. (e.s.t.) until 1 a.m. (e.s.t.) on July 4th.

(7) Burlington, VT July 3rd Fireworks, Burlington Bay:

(i) Location: All waters of Burlington Bay within a 300-yard radius of the fireworks barge in approximate position 44°28′30.6″N 073°13′31.3″W (NAD 1983), beside the Burlington Bay Breakwater.

(ii) Effective period. Paragraph (a)(7)(i) is in effect annually from 8 p.m. (e.s.t.) to 1 a.m. (e.s.t.) on July 3rd. If the event is cancelled due to inclement weather, then paragraph (a)(7)(i) is effective from 8 p.m. (e.s.t.) to 1 a.m. (e.s.t.) on the following two Fridays and Saturdays.

(8) Rensselaer, NY Fireworks, Hudson River:

(i) Location. All waters of the Hudson River within a 180-yard radius of the fireworks barge in approximate position 42°38′23″N 073°44′59.1″W (NAD 1983), about 480 yards south of the Dunn Memorial Bridge (mile 145.4).

(ii) Effective period. Paragraph (a)(8)(i) is in effect annually from 8 p.m. (e.s.t.) to 1 a.m. (e.s.t.) on the first and second Saturday in August. If the event is cancelled due to inclement weather, then paragraph (a)(8)(i) is effective from 8 p.m. (e.s.t.) to 1 a.m. (e.s.t.) on the first and second Sunday in August.

(9) Staten Island Labor Day Fireworks, Arthur Kill:

(i) Location. All waters of the Arthur Kill, Ward Point Bend (West), and the Raritan River Cutoff, within a 300-yard radius of the fireworks barge in approximate position 40°30′18″N 074°15′30″W (NAD 1983), about 300 yards west of Conference House Park, Staten Island.

(ii) Effective period. Paragraph (a)(9)(i) is in effect annually from 8 p.m. (e.s.t.) to 1 a.m. (e.s.t.) on the Saturday before Labor Day. If the event is cancelled due to inclement weather, then paragraph (a)(9)(i) is effective from 8 p.m. (e.s.t.) until 1 a.m. (e.s.t.) on the Sunday and Monday of Labor Day Weekend.

(10) Seaport Labor Day Fireworks, East River, NY:

(i) Location: All waters of the East River south of the Brooklyn Bridge and north of a line drawn from the southwest corner of Pier 3, Brooklyn, to the northeast corner of Pier 6, Manhattan.

(ii) Effective period. Paragraph (a)(10)(i) is in effect annually from 8 p.m. (e.s.t.) to 1 a.m. (e.s.t.) on Labor Day. If the event is cancelled due to inclement weather, then paragraph (a)(10)(i) is effective from 8 p.m. (e.s.t.) until 1 a.m. (e.s.t.) on the day following Labor Day.

(11) Deepavali Festival Fireworks, East River, NY:

(i) Location: All waters of the East River south of the Brooklyn Bridge and north of a line drawn from the southwest corner of Pier 3, Brooklyn, to the northeast corner of Pier 6, Manhattan.

(ii) Effective period. Paragraph (a)(11)(i) is in effect annually from 6 p.m. (e.s.t.) to 1 a.m. (e.s.t.) on the first Sunday in October. If the event is cancelled due to inclement weather, then paragraph (a)(11)(i) is effective from 6 p.m. (e.s.t.) until 1 a.m. (e.s.t.) on the first Monday in October.

(12) Seaport New Year's Eve Fireworks, East River, NY:

(i) Location: All waters of the East River south of the Brooklyn Bridge and north of a line drawn from the southwest corner of Pier 3, Brooklyn, to the northeast corner of Pier 6, Manhattan.

(ii) Effective period. Paragraph (a)(2)(i) is in effect annually from 8 p.m. (e.s.t.) to 1 a.m. (e.s.t.) on New Year's Eve. If the event is cancelled due to inclement weather, then paragraph (a)(12)(i) is effective from 8 p.m. (e.s.t.) until 1 a.m. (e.s.t.) on the day following New Year's Eve.

(b) Regulations. The general regulations contained in 33 CFR 165.23 apply.

(2) All persons and vessels shall comply with the instructions of the Coast Guard Captain of the Port or the designated on-scene-patrol personnel. These personnel comprise commissioned, warrant, and petty officers of the Coast Guard. Upon being hailed by a U.S. Coast Guard vessel by siren, radio, flashing light, or other means, the operator of a vessel shall proceed as directed.

Dated: October 24, 2000.
R.E. Bennis,
Captain, U.S. Coast Guard, Captain of the Port, New York.

[FR Doc. 00-28059 Filed 11-1-00; 8:45 am]

BILLING CODE 4910-15-M